DEPARTMENT OF COMMERCE

International Trade Administration

University of Vermont, et al., Notice of Consolidated Decision on Applications, for Duty-Free Entry of Electron Microscopes

This is a decision consolidated pursuant to Section 6(c) of the Educational, Scientific, and Cultural Materials Importation Act of 1966 (Pub. L. 89-651, 80 Stat. 897; 15 CFR part 301). Related records can be viewed between 8:30 A.M. and 5:00 P.M. in Suite 4100W, Franklin Court Building, U.S. Department of Commerce, 1099 14th Street, NW, Washington, D.C.

Docket Number: 05-045. Applicant: University of Vermont, School of Medicine, Burlington, VT 05401. Instrument: Electron Microscope, Model Morgagni 268. Manufacturer: FEI Company, Czech Republic. Intended Use: See notice at 70 FR 71465, November 29, 2005. Order Date: December 29,2004.

Docket Number: 05-048. Applicant: Purdue University, West Lafayette, IN 47907. Instrument: Electron Microscope, Model Nova 200 NanoLab. Manufacturer: FEI Company, The Netherlands. Intended Use: See notice at 70 FR 72609, December 6, 2005. Order Date: December 17, 2004.

Docket Number: 05-045. Applicant: Purdue University, West Lafayette, IN 47907. Instrument: Electron Microscope, Model Technai G2 F30 S-TWIN. Manufacturer: FEI Company, The Netherlands. Intended Use: See notice at 70 FR 72609, December 6, 2005. Order Date: December 22, 2004.

Docket Number: 05-050. Applicant: Ohio State University, Columbus, OH 43210. Instrument: Electron Microscope, Model Titan F30 S-TWIN. Manufacturer: FEI Company, The Netherlands. Intended Use: See notice at 70 FR 72609, December 6, 2005. Order Date: April 14, 2005.

Docket Number: 05-051. Applicant: The Rockefeller University, New York, NY 10021. Instrument: Electron Microscope, Model Technai G2 12 Spirit Bio Twin. Manufacturer: FEI Company, The Netherlands. Intended Use: See notice at 70 FR 72609. Order Date: April 13, 2005.

Comments: None received. Decision: Approved. No instrument of equivalent scientific value to the foreign instrument, for such purposes as these instruments are intended to be used, was being manufactured in the United States at the time the instruments were ordered. Reasons: Each foreign instrument provides a conventional transmission electron microscope (CTEM) and is intended for research or scientific educational uses requiring a CTEM. We know of no CTEM, or any other instrument suited to these purposes, which was being manufactured in the United States either at the time of order of each instrument OR at the time of receipt of application by U.S. Customs and Border Protection.

Gerald A. Zerdy,
Program Manager, Statutory Import Programs Staff.

[FR Doc. E5-8092 Filed 12-28-05; 8:45 am]

BILLING CODE 3510-DS-S